DEPARTMENT OF AGRICULTURE

Submission for OMB Review; Comment Request

July 11, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Payment Eligibility and Limitation Determinations for the Noninsured Crop Disaster Assistance Program.

OMB Control Number: 0560-0096.

Summary of Collection: The Farm Service Agency (FSA) administers certain farm programs in which the payments are subject and not subject to the established payment limitations. The Farm Security and Rural Investment Act of 2002 amended the provisions of the Food Security Act of 1985 to provide for a $40,000 limitation per crop year on the direct payments; $65,000 per crop year on counter-cyclical payments, $75,000 per crop year on the amount of marketing loan gains and loan deficiency payments a person may receive; and apply the payment eligibility provisions of the 1985 Act to payments made under the direct and counter-cyclical payment program contract, marketing loan gains and loan deficiency payments. FSA will collect information using several forms.

Need and Use of the Information: FSA will collect information to determine the eligibility for payment and the number of “persons” for the application of the payment limitation required for the respective program. Information is captured on different forms depending upon the nature and the type of program participant's farming operation. Without the data, FSA cannot determine whether the individual or the entity requesting program benefits is eligible and or in compliance with the statutory and regulatory requirements of payment eligibility and payment limitation. FSA and the National Appeals Division also use the information on review in the event an appeal is filed by the producer regarding any of the determinations.

Description of Respondents: Farms; Individuals or households; Business or other for-profit.

Number of Respondents: 162,142.

Frequency of Responses: Reporting: On occasion; Annually; Other (as needed).

Total Burden Hours: 266,364.

Ruth Brown,
Departmental Information Collection Clearance Officer.

[FR Doc. E6-11201 Filed 7-14-06; 8:45 am]

BILLING CODE 3410-05-P